Title 3—

The President

Proclamation 7636 of January 2, 2003

National Mentoring Month, 2003

By the President of the United States of America

A Proclamation

Across our great Nation, many Americans are responding to the call to service by mentoring a child in need. By offering love, guidance, and encouragement, mentors put hope in children's hearts, and help ensure that young people realize their full potential. During National Mentoring Month, we recognize the vital contributions of dedicated mentors, and we encourage more Americans to make a difference in the hearts and souls of our communities by volunteering their time to meet the needs of America's youth.

Volunteers provide friendship and support to young people who are facing challenging situations, serve as positive role models, and help to instill important values, goals, and skills. Mentors help young Americans build confidence, gain knowledge, and develop the character necessary to make the right choices and achieve their dreams. Statistics show that at-risk children with mentors demonstrate improved academic performance and are less likely to be involved in destructive activities such as drugs, alcohol, and violence.

During these extraordinary times, we are experiencing a growing culture of service, citizenship, and compassion in our country, with millions of Americans sacrificing for causes greater than self. Dedicated individuals are getting involved in mentoring through faith-based and community organizations, corporate initiatives, school-based programs, and many other outlets for kindness. By dedicating their time and their talents to offer a child a quality relationship with a caring adult, mentors strengthen our families and our communities and reflect the true spirit of America.

Many Americans can point to individuals who influenced their lives and helped to shape them into who they are today. Whether they were teachers, coaches, relatives, clergy, or other community leaders, these positive role models have been critical to our healthy development and helped to instill purpose in our lives. As we honor these everyday heroes, we also recognize that there is a great need for more mentors in America. Too many children in our Nation are growing up without enough support and guidance in their lives, and we must work to ensure that no child is left behind.

This month, I encourage all Americans to become a mentor and change the life of a child in need. In July, the National Mentoring Partnership helped establish the USA Freedom Corps Volunteer Network—the largest system in the Nation for matching individuals with volunteer opportunities. I am proud of this partnership and ask individuals to go online at www.usafreedomcorps.gov or call 1-877-USACORPS to find millions of ways to help children in their neighborhoods. Together, we can reaffirm the promise of America and point the way to a brighter future for all of our children.

NOW, THEREFORE, I, GEORGE W. BUSH, President of the United States of America, by virtue of the authority vested in me by the Constitution and laws of the United States, do hereby proclaim January 2003 as National Mentoring Month. I call upon the people of the United States to recognize the importance of being role models for our youth, to look for mentoring opportunities in their communities, and to celebrate this month with appropriate ceremonies, activities, and programs.

IN WITNESS WHEREOF, I have hereunto set my hand this second day of January, in the year of our Lord two thousand three, and of the Independence of the United States of America the two hundred and twenty-seventh.

B

[FR Doc. 03-438

Filed 1-7-03; 8:45 am]

Billing code 3195-01-P